DEPARTMENT OF ENERGY

Federal Energy Regulatory Commission

Combined Notice of Filings

Take notice that the Commission has received the following Natural Gas Pipeline Rate and Refund Report filings:

Filings Instituting Proceedings

Docket Numbers: PR24-83-000.

Applicants: Regency Intrastate Gas LP.

Description: § 284.123 Rate Filing: RIGS Multi-Section Based SOC Filing to be effective 7/1/2024.

Filed Date: 7/1/24.

Accession Number: 20240701-5232.

Comment Date: 5 p.m. ET 7/22/24.

Docket Numbers: RP24-880-000.

Applicants: NEXUS Gas Transmission, LLC.

Description: § 4(d) Rate Filing: Negotiated Rates—Castleton 860576 eff 7-1-2024 to be effective 7/1/2024.

Filed Date: 7/1/24.

Accession Number: 20240701-5220.

Comment Date: 5 p.m. ET 7/15/24.

Docket Numbers: RP24-881-000.

Applicants: Midcontinent Express Pipeline LLC.

Description: § 4(d) Rate Filing: Trafigura NRANCA Clean-Up Filing to be effective 8/1/2024.

Filed Date: 7/1/24.

Accession Number: 20240701-5224.

Comment Date: 5 p.m. ET 7/15/24.

Docket Numbers: RP24-882-000.

Applicants: ANR Pipeline Company.

Description: § 4(d) Rate Filing: ANR—Citadel 140790 Negotiated Rate Agreement to be effective 7/1/2024.

Filed Date: 7/1/24.

Accession Number: 20240701-5228.

Comment Date: 5 p.m. ET 7/15/24.

Docket Numbers: RP24-883-000.

Applicants: Equitrans, L.P.

Description: § 4(d) Rate Filing: Negotiated Rate Agreement—8/1/2024 to be effective 8/1/2024.

Filed Date: 7/1/24.

Accession Number: 20240701-5251.

Comment Date: 5 p.m. ET 7/15/24.

Docket Numbers: RP24-884-000.

Applicants: Texas Eastern Transmission, LP.

Description: § 4(d) Rate Filing: Negotiated Rates—Various Releases eff 7-1-24 to be effective 7/1/2024.

Filed Date: 7/1/24.

Accession Number: 20240701-5268.

Comment Date: 5 p.m. ET 7/15/24.

Docket Numbers: RP24-885-000.

Applicants: Algonquin Gas Transmission, LLC.

Description: § 4(d) Rate Filing: Negotiated Rates—Various Releases eff 7-1-24 to be effective 7/1/2024.

Filed Date: 7/1/24.

Accession Number: 20240701-5277.

Comment Date: 5 p.m. ET 7/15/24.

Docket Numbers: RP24-886-000.

Applicants: Trailblazer Pipeline Company LLC.

Description: § 4(d) Rate Filing: TPC 2024-07-01 Definition Revisions to be effective 8/1/2024.

Filed Date: 7/1/24.

Accession Number: 20240701-5284.

Comment Date: 5 p.m. ET 7/15/24.

Docket Numbers: RP24-887-000.

Applicants: NEXUS Gas Transmission, LLC.

Description: § 4(d) Rate Filing: Negotiated Rates—Various Releases eff 7-1-2024 to be effective 7/1/2024.

Filed Date: 7/1/24.

Accession Number: 20240701-5318.

Comment Date: 5 p.m. ET 7/15/24.

Docket Numbers: RP24-888-000.

Applicants: Equitrans, L.P.

Description: § 4(d) Rate Filing: Negotiated Rate Capacity Release Agreements 07012024 to be effective 7/1/2024.

Filed Date: 7/1/24.

Accession Number: 20240701-5320.

Comment Date: 5 p.m. ET 7/15/24.

Docket Numbers: RP24-889-000.

Applicants: Midwestern Gas Transmission Company.

Description: § 4(d) Rate Filing: Negotiated Rate Agreement—Eco-Energy Natural Gas FA1574 to be effective 7/1/2024.

Filed Date: 7/1/24.

Accession Number: 20240701-5392.

Comment Date: 5 p.m. ET 7/15/24.

Docket Numbers: RP24-890-000.

Applicants: Ruby Pipeline, L.L.C.

Description: § 4(d) Rate Filing: RP 2024-07-02 System Map URL to be effective 8/2/2024.

Filed Date: 7/2/24.

Accession Number: 20240702-5096.

Comment Date: 5 p.m. ET 7/15/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 2, 2024.
Debbie-Anne A. Reese,
Acting Secretary.

[FR Doc. 2024-15074 Filed 7-9-24; 8:45 am]

BILLING CODE 6717-01-P